ENVIRONMENTAL PROTECTION AGENCY

[ER-FRL-8995-1]

Environmental Impact Statements; Notice of Availability

Responsible Agency: Office of Federal Activities, General Information (202) 564-1399 or http://www.epa.gov/compliance/nepa/.

Weekly receipt of Environmental Impact Statements

Filed 01/18/2011 Through 01/21/2011

Pursuant to 40 CFR 1506.9

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the website satisfies the Section 309(a) requirement to make EPA's comments on EISs available to the public. Accordingly, on March 31, 2010, EPA discontinued the publication of the notice of availability of EPA comments in the Federal Register.

EIS No. 20110016, Draft EIS, FTA, MI, Woodward Avenue Light Rail Transit Project, Construction and Operation, City of Detroit, Wayne County, MI, Comment Period Ends: 03/14/2011, Contact: Tricia M. Harr 202-366-0486.

EIS No. 20110017, Draft EIS, BR, CA, Bunker Hill Groundwater Basin, Riverside-Corona Feeder Projects, To Increase Firm Water Supplies, Improve Water Quality, and to Reduce Water Costs, San Bernardino and Riverside Counties, CA, Comment Period Ends: 03/22/2011, Contact: Amy Witherall 951-695-5310.

EIS No. 20110018, Draft EIS, BLM, NV, Salt Wells Energy Projects, Proposal for Three Separate Geothermal Energy and Transmission Projects, Implementation, Churchill County, NV, Comment Period Ends: 03/28/2011, Contact: Colleen Sievers 775-885-6000.

EIS No. 20110019, Final EIS, DOE, 00, Long -Term Management and Storage of Elemental Mercury Storage Project, Designate a Facility or Facilities for Mercy Storage, Seven Alternative Sites, CO, ID, MO, NV, SC and WA, Review Period Ends: 02/28/2011, Contact: David Levenstein 301-903-6500.

EIS No. 20110020, Draft EIS, NRCS, IA, Clarke County Water Supply, To Construct a Multiple-purpose Structure that Provides for Rural Water Supply and Water Based Recreational Opportunities, Clarke County, IA, Comment Period Ends: 03/14/2011, Contact: Richard Sims 515-284-6655.

EIS No. 20110021, Final EIS, NPS, 00, Long Walk National Historic Trail Feasibility Study, To Evaluate the Suitability and Feasibility of Designating the Routes, Implementation, Apache, Coconino, Navajo Counties, AZ; Bernalillo, Cibola, De Baca, Guadalupe, Lincoln, McKinley, Mora, Otero, Santa Fe, Sandolval, Torrance, Valencia Counties, NM, Review Period Ends: 02/28/2011, Contact: Sharon Brown 505-988-6717.

EIS No. 20110022, Draft EIS, USFS, MT, Cedar-Thom Project, Desired Landscapes Conditions and Current Conditions Related to Forest Vegetation, Fuels, Wildlife and Aquatic Habitat and Recreation, Lolo National Forest, Superior Ranger District, Mineral County, MT, Comment Period Ends: 03/14/2011, Contact: Pat Partyka 406-826-4314.

EIS No. 20110023, Final EIS, NRC, WY, Nichols Ranch In-Situ Uranium Recovery (ISR) Project, Proposal to Construct, Operate, Conduct Aquifer Restoration, and Decommission and In-Situ Recovery Uranium Milling Facility, Campbell and Johnson Counties, WY, Review Period Ends: 02/28/2011, Contact: Patricia Swain 301-415-5405.

EIS No. 20110024, Final EIS, USFS, OR, Three Trails Off-Highway Vehicle Project, Designated Off-Highway Vehicle (OHV) Trail System, Crescent Ranger District, Deschutes National Forest, Klamath County, OR, Review Period Ends: 02/28/2011, Contact: Joan Kittrell 541-433-3200.

EIS No. 20110025, Final EIS, FTA, CO, North Metro Corridor Project, Proposed a Commuter Rail Transit from downtown Denver, Colorado, north to State Highway (SH) 7, in the Cities of Denver, Commerce City, Thornton, Northglenn, and Adams County, CO, Review Period Ends: 02/28/2011, Contact: David Beckhouse 720-963-3306.

Amended Notices

EIS No. 20100450, Draft EIS, USFS, ID, Upper Lochsa Land Exchange Project, Proposes to Exchange National Forest System Land for approximately 39,371 Acres of western Pacific Timber Land, Federal Land Exchange, Clearwater, Nez Perce and Idaho Panhandle National Forests, Clearwater, Latah, Idaho, Benewah, Kootenai and Bonner Counties, ID, Comment Period Ends: 03/09/2011, Contact: Teresa Trulock 208-935-4256 Revision to FR Notice 11/26/2010: Extending Comment from 02/23/2011 to 03/09/2011.

EIS No. 20110000, Final EIS, USFS, CA, Concow Hazardous Fuels Reduction Project, Propose to Reduce Hazardous Forest Fuels, Plus Establish and Maintain Spaces - Defensible Fuel Profile Zones (DFPZs), Feather River Ranger District, Plumas National Forest, Towns of Paradise, Magalia, Concow, Butte County, CA, Review Period Ends: 02/14/2011, Contact: Carol Spinos 530-532-8932

Revision to FR Notice Published 01/14/2011: Correction to Contact Phone Number.

Dated: January 25, 2011.
Robert W. Hargrove,
Director, NEPA Compliance Division, Office of Federal Activities.

[FR Doc. 2011-1901 Filed 1-27-11; 8:45 am]

BILLING CODE 6560-50-P